SECURITIES AND EXCHANGE COMMISSION

[Release No. 34-44198; File No. SR-PHLX-2001-47]

Self-Regulatory Organizations; Notice of Filing of Proposed Rule Change by the Philadelphia Stock Exchange, Inc. To Adopt an Annual Fee of $200 for Members and Participants Retention and Renewal of the Print Loose Leaf Subscription to the Phlx Guide, Containing the Charter, By-Laws and Rules of the Exchange

April 18, 2001.

Pursuant to section 19(b)(1) of the Securities Exchange Act of 1934 (“Act”),¹ and Rule 19b-4 thereunder,² notice is hereby given that on April 9, 2001, the Philadelphia Stock Exchange, Inc. (“Phlx” or “Exchange”) filed with the Securities and Exchange Commission (“SEC” or “Commission”) the proposed rule change as described in Items I, II, and III, below, which Items have been prepared by the Phlx. The Commission is publishing this notice to solicit comments on the proposed rule change from interested persons.

¹ 15 U.S.C. 78s(b)(1).

² 17 CFR 240.19b-4.

I. Self-Regulatory Organization's Statement of the Terms of Substance of the Proposed Rule Change

The Phlx proposes to adopt an annual fee of $200 for members and participants retention and renewal of the print loose leaf subscription to the Phlx Guide, containing the Charter, By-Laws and Rules of the Exchange.

II. Self-Regulatory Organization's Statement of the Purpose of, and the Statutory Basis for, the Proposed Rule Change

In its filing with the Commission, the Phlx included statements concerning the purpose of, and basis for, the proposed rule change and discussed any comments it received on the proposed rule change. The text of these statements may be examined at the places specified in Item IV below. The Phlx has prepared summaries, set forth in sections A, B, C below, of the most significant aspects of such statements periods.

A. Self-Regulatory Organization's Statement of the Purpose of, and Statutory Basis for, the Proposed Rule Change

The purpose of the proposed rule change is to adopt a fee of $200 for retention and annual renewal of a print subscription to the Phlx Guide.³ The Exchange has had a policy to provide a subscription at no charge for each member requesting one for their member organization. The Exchange is in the process of offering the membership free internet access to the Phlx Guide by establishing a linkage to click upon the Exchange's website. The Exchange will continue to offer those members and participants that want to continue to receive the print loose-leaf subscription to the Phlx Guide for the charge of $200, a discount from the costs to the Exchange for this service. The expenditures to support the availability to provide free internet access to the Exchange's By-Laws and Rules while maintaining a minimum number of print loose leaf subscription to the Phlx Guide requires this modest annual fee charge of $200 for those retaining a print subscription to Phlx Guide. The Exchange will continue to provide a Phlx Guide print subscription without charge to new members and member organizations for the balance of the year of initial admission to the Exchange.

³ A conforming change to the description of the proposed rule change with the text of the proposal was made pursuant to a telephone conservation between Murray L. Ross, Vice President and Secretary, Phlx, and Marc McKayle, Special Counsel, Division of Market Regulation, Commission on April 18, 2001.

This charge is intended to partially defray the costs associated with servicing and maintenance of the print subscription for the loose leaf subscription to the Phlx Guide.

The Exchange has determined that its fee for retention and subscription maintenance services is appropriate and only reflects partial costs recovery. The charge of $200 per print subscription is a discounted price available through the Exchange to members and participants. This partial cost recovery will assist the Exchange in offering the investing public an opportunity to access the Phlx Guide at no cost via internet access linkage at the Phlx web site, Phlx.com.⁴

⁴ This fee is not eligible for the monthly credit of up to $1000.00. See Securities Exchange Act Release No. 43567 (November 15, 2000), 65 FR 71187 (November 29, 2000) (SR-Phlx-00-100).

For these reasons, the Exchange believes that its proposal to amend its schedule of dues, fees and charges to include a fee of $200 to retain a print subscription to the Phlx Guide is consistent with section 6(b) of the Act,⁵ in general, and furthers the objectives of section 6(b)(4),⁶ in particular, in that it provides for the equitable allocation of reasonable dues, fees and other charges among its members and other persons using its facilities.

⁵ 15 U.S.C. 78f(b).

⁶ 15 U.S.C. 78f(b)(4).

B. Self-Regulatory Organization's Statement on Burden On Competition

The Exchange does not believe that the proposed rule change will impose any inappropriate burden on competition.

C. Self-Regulatory Organization's Statement on Comments on the Proposed Rule Change Received From Members, Participants or Others

No written comments were either solicited or received.

III. Date of Effectiveness of the Proposed Rule Change and Timing for Commission Action

The foregoing proposed rule change has been designated as a fee change pursuant to section 19(b)(3)(A) of the Act,⁷ and Rule 19b-4(f)(2) thereunder.⁸ Accordingly, the proposal will take effect upon filing with the Commission. At any time within 60 days of the filing of the proposed rule change, the Commission may summarily abrogate such rule change if it appears to the Commission that such action is necessary or appropriate in the public interest, for the protection of investors, or otherwise in furtherance of the purposes of the Act.

⁷ 15 U.S.C. 78s(b)(3)(A).

⁸ 17 CFR 240.19b-4(f)(2).

IV. Solicitation of Comments

Interested persons are invited to submit written data, views and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Phlx. All submission should refer to File No. SR-Phlx-2001-47 and should be submitted by May 17, 2001.

For the Commission by the Division of Market Regulation, pursuant to delegated authority.⁹
⁹ 17 CFR 200.30-3(a)(12).
Margaret H. McFarland,
Deputy Secretary.

[FR Doc. 01-10393 Filed 4-25-01; 8:45 am]

BILLING CODE 8010-01-M